FEDERAL COMMUNICATIONS COMMISSION

47 CFR Part 15

[ET Docket No. 03-65; FCC 07-79]

Interference Immunity Performance Specifications for Radio Receivers

AGENCY: Federal Communications Commission.

ACTION: Termination of proceeding.

SUMMARY: This document terminates the “Interference Immunity Performance Specifications” proceeding. The Commission finds that with the passage of time, the NOI and record in this proceeding have become outdated. Further, to the extent receiver interference immunity performance specifications are desirable, they may be addressed in proceedings that are frequency band or service specific. As there does not appear to be a need for further Commission action at this time, we are terminating this proceeding without prejudice to its substantive merits.

DATES: This proceeding is terminated as of May 4, 2007.

FOR FURTHER INFORMATION CONTACT: Rodney Small, Policy and Rules Division, Office of Engineering and Technology, (202) 418-2452, e-mail Rodney.Small@fcc.gov.

SUPPLEMENTARY INFORMATION: This is a summary of the Commission's Order, ET Docket No. 03-65, FCC 07-79, adopted May 2, 2007 and released May 4, 2007. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Order

1. On March 13, 2003, the Commission adopted a Notice of Inquiry (“NOI”), 68 FR 23677, May 5, 2003, in this proceeding. The NOI sought information on whether the Commission should incorporate receiver interference immunity performance specifications into spectrum policy decisions on a broad basis.

2. The Commission finds that with the passage of time, the NOI and record in this proceeding have become outdated. Further, to the extent receiver interference immunity performance specifications are desirable, they may be addressed in proceedings that are frequency band or service specific. As there does not appear to be a need for further Commission action at this time, we are terminating this proceeding without prejudice to its substantive merits. If any party wishes to pursue these issues in the future, nothing precludes us from evaluating them in the context of other proceedings.

3. The Commission will not send a copy of this Order in a report to be sent to Congress and the Government Accountability Office pursuant to the Congressional Review Act, see 5 U.S.C. 801(a)(1)(A), because the Order does not adopt any rules it only terminates the proceeding.

Ordering Clauses

4. Pursuant to sections 4(i) and 4(j) of the Communications Act, 47 U.S.C. 154(i) and 154(j), ET Docket No. 03-65 is terminated, as of May 4, 2007.

Federal Communications Commission.
Marlene H. Dortch,
Secretary.

[FR Doc. E7-11811 Filed 6-19-07; 8:45 am]

BILLING CODE 6712-01-P